DEPARTMENT OF ENERGY

Federal Energy Regulatory Commission

Combined Notice of Filings # 1

December 18, 2009.

Take notice that the Commission received the following exempt wholesale generator filings:

Docket Numbers: EG10-11-000.

Applicants: Ridgewind Power Partners, LLC.

Description: Self Certification Notice of Ridgewind Power Partners, LLC for Exempt Wholesale Generator Status.

Filed Date: 12/09/2009.

Accession Number: 20091209-5091.

Comment Date: 5 p.m. Eastern Time on Wednesday, December 30, 2009.

Docket Numbers: EG10-12-000.

Applicants: Green Country Operating Services, LLC.

Description: EWG Self Certification Notice of Green Country Operating Services, LLC.

Filed Date: 12/15/2009.

Accession Number: 20091215-5087.

Comment Date: 5 p.m. Eastern Time on Tuesday, January 5, 2010.

Docket Numbers: EG10-14-000.

Applicants: Buffalo Ridge II LLC.

Description: Notice of Self-Certification of Exempt Wholesale Generator Status of Buffalo Ridge II.

Filed Date: 12/17/2009.

Accession Number: 20091217-5121.

Comment Date: 5 p.m. Eastern Time on Thursday, January 7, 2010.

Docket Numbers: EG10-15-000.

Applicants: Elm Creek Wind II LLC.

Description: Notice of Self-Certification of Exempt Wholesale Generator Statusof Elm Creek Wind II LLC.

Filed Date: 12/17/2009.

Accession Number: 20091217-5123.

Comment Date: 5 p.m. Eastern Time on Thursday, January 7, 2010.

Take notice that the Commission received the following electric rate filings:

Docket Numbers: ER10-71-002.

Applicants: Elmwood Park Power LLC.

Description: Elmwood Park Power LLC submits amended tariff designated as FERC Electric Tariff, Original Volume 1.

Filed Date: 12/16/2009.

Accession Number: 20091217-0201.

Comment Date: 5 p.m. Eastern Time on Wednesday, January 6, 2010.

Docket Numbers: ER09-1400-003.

Applicants: Milford Wind Corridor Phase I, LLC.

Description: Milford Wind Corridor Phase I, LLC submits a revised version of its market-based rate wholesale power sales tariff.

Filed Date: 12/16/2009.

Accession Number: 20091217-0194.

Comment Date: 5 p.m. Eastern Time on Wednesday, January 6, 2010.

Docket Numbers: ER10-211-001.

Applicants: Pacific Gas and Electric Company.

Description: Pacific Gas and Electric Co. submits the Errata to the October 30, 2009 Filing re its Grid Management Charge Pass-Through Tariff.

Filed Date: 12/17/2009.

Accession Number: 20091217-0207.

Comment Date: 5 p.m. Eastern Time on Tuesday, December 22, 2010.

Docket Numbers: ER10-306-001.

Applicants: Florida Power & Light Company.

Description: Florida Power & Light Company submits the corrected sheets as Sub Original Sheet 70 through Sub Original Sheet 76.

Filed Date: 12/16/2009.

Accession Number: 20091217-0192.

Comment Date: 5 p.m. Eastern Time on Wednesday, January 6, 2010.

Docket Numbers: ER10-338-001.

Applicants: Southwest Power Pool, Inc.

Description: Southwest Power Pool, Inc. submits the KEPCO Agreements with the proper designation as required by Order 614.

Filed Date: 12/17/2009.

Accession Number: 20091217-0210.

Comment Date: 5 p.m. Eastern Time on Thursday, January 7, 2010.

Docket Numbers: ER10-425-000.

Applicants: Oceanside Power LLC.

Description: Oceanside Power LLC submits Petition for Acceptance of Initial Tariff, Waivers and Blanket Authority.

Filed Date: 12/17/2009.

Accession Number: 20091217-0206.

Comment Date: 5 p.m. Eastern Time on Thursday, January 7, 2010.

Docket Numbers: ER10-426-000.

Applicants: Stetson Wind II, LLC.

Description: Stetson Wind II, LLC submits its proposed FERC Electric Tariff, Original Volume 1 under which Stetson Wind II may make wholesale sales of electric capacity, energy, and ancillary services at market-based rates.

Filed Date: 12/16/2009.

Accession Number: 20091217-0193.

Comment Date: 5 p.m. Eastern Time on Wednesday, January 6, 2010.

Docket Numbers: ER10-435-000.

Applicants: CPIDC, Inc.

Description: CPIDC, Inc. submits Notice of Succession informing the Commission that CPIDC adopts EPDC's market-based rate tariff.

Filed Date: 12/15/2009.

Accession Number: 20091217-0196.

Comment Date: 5 p.m. Eastern Time on Tuesday, January 5, 2010.

Docket Numbers: ER10-436-000.

Applicants: CPI Energy Services (US) LLC.

Description: Notice of Name Change and Succession is being filed to inform the Commission of the change in name of EPLP Energy Services, LLC to CPI Energy Services.

Filed Date: 12/15/2009.

Accession Number: 20091217-0197.

Comment Date: 5 p.m. Eastern Time on Tuesday, January 5, 2010.

Docket Numbers: ER10-437-000.

Applicants: ISO New England, Inc.

Description: ISO New England, Inc. submits tariff sheets reflecting the repositioning of tariff sheet etc.

Filed Date: 12/15/2009.

Accession Number: 20091217-0198.

Comment Date: 5 p.m. Eastern Time on Tuesday, January 5, 2010.

Docket Numbers: ER10-438-000.

Applicants: ISO New England Inc.

Description: ISO New England Inc. et al. submits a package of materials that include the Installed Capacity Requirements and related values that will be used in the final Forward Capacity Market reconfiguration auction for the 2010/2011 Capability Year.

Filed Date: 12/15/2009.

Accession Number: 20091217-0200.

Comment Date: 5 p.m. Eastern Time on Tuesday, January 5, 2010.

Docket Numbers: ER10-439-000.

Applicants: Public Service Company of New Mexico.

Description: Public Service Company of New Mexico submits an amendment to Service Agreement 205 under its Open Access Transmission Tariff.

Filed Date: 12/16/2009.

Accession Number: 20091217-0209.

Comment Date: 5 p.m. Eastern Time on Wednesday, January 6, 2010.

Docket Numbers: ER10-441-000.

Applicants: PacifiCorp.

Description: PacifiCorp submits an Amended and Restated Interconnection Agreement dated 11/16/09 between Montana-Dakota and PacifiCorp to be designated as PacifiCorp First Revised Rate Schedule FERC 434.

Filed Date: 12/16/2009.

Accession Number: 20091217-0208.

Comment Date: 5 p.m. Eastern Time on Wednesday, January 6, 2010.

Docket Numbers: ER10-442-000.

Applicants: North Western Corporation.

Description: North Western Corporation submits the executed Large Generator Interconnection Agreement between North Western and Martinsdale Wind Farm LLC.

Filed Date: 12/16/2009.

Accession Number: 20091217-0205.

Comment Date: 5 p.m. Eastern Time on Wednesday, January 6, 2010.

Take notice that the Commission received the following electric securities filings:

Docket Numbers: ES10-17-000.

Applicants: South Carolina Electric & Gas Company, South Carolina Generating Company, Inc.

Description: Application of South Carolina Electric & Gas Company and South Carolina Generating Company, Inc.

Filed Date: 12/16/2009.

Accession Number: 20091216-5112.

Comment Date: 5 p.m. Eastern Time on Wednesday, January 6, 2010.

Take notice that the Commission received the following PURPA 210(m)(3) filings:

Docket Numbers: QM10-3-000.

Applicants: New York State Electric & Gas Corp., Rochester Gas and Electric Corporation.

Description: Application of New York State Electric & Gas Corporation and Rochester Gas and Electric Corporation Requesting Termination of Their Obligation to Purchase from Qualifying Facilities with Net Capacity Greater than 20 MW.

Filed Date: 12/18/2009.

Accession Number: 20091218-5087.

Comment Date: 5 p.m. Eastern Time on Friday, January 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-30804 Filed 12-28-09; 8:45 am]

BILLING CODE 6717-01-P